DEPARTMENT OF HOMELAND SECURITY

Federal Emergency Management Agency

[Docket ID: FEMA-2013-0054; OMB No. 1660-0015]

Agency Information Collection Activities: Submission for OMB Review; Comment Request; Revisions to National Flood Insurance Program Maps: Application Forms and Instructions for (C)LOMAs and (C)LOMR-Fs.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 7, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Revisions to National Flood Insurance Program Maps: Application Forms and Instructions for (C)LOMAs and (C)LOMR-Fs.

Type of information collection: Revision of a currently approved information collection.

Form Titles and Numbers: FEMA Form 086-0-26, Property Information; FEMA Form 086-0-26A, Elevation Form; FEMA Form 086-0-26B, Community Acknowledgement Form; FEMA Form 086-0-22 and FEMA Form 086-0-22A (Spanish), Application Form for Single Residential Lot or Structure Amendments to National Flood Insurance Program Maps.

Abstract: FEMA collects scientific and technical data submissions to determine whether a specific, single-lot property is located within or outside of a Special Flood Hazard Area (SFHA). If the property is determined not to be within a SFHA, FEMA provides a written determination and the appropriate map is modified by a Letter of Map Amendment (LOMA) or a Letter of Map Revision—Based on Fill (LOMR-F). The owner or lessee of a property uses a LOMA or LOMR-F to show that a property is not located within the SFHA, making it possible for the lending institution to waive the flood insurance requirement. If the policyholder decides to maintain insurance on the property, the new determination should result in lower rates.

Affected Public: Individuals and Households; and Business or Other for-Profit Institutes.

Estimated Number of Respondents: 97,503.

Estimated Total Annual Burden Hours: 150,725.

Estimated Cost: The property owner is required to hire a surveyor or engineer at an average cost of $450 to provide certified elevation data. Therefore the total annual cost burden to respondents is estimated to be $47,465,100.

Dated: February 28, 2014.
Charlene D. Myrthil,
Director, Records Management Division, Mission Support Bureau, Federal Emergency Management Agency, Department of Homeland Security.

[FR Doc. 2014-04910 Filed 3-5-14; 8:45 am]

BILLING CODE 9111-52-P